DEPARTMENT OF JUSTICE

[OMB Number 1125-NEW]

Agency Information Collection Activities; Proposed Collection; Comments Requested; FOIAXpress/FOIA Public Access Link

AGENCY: Executive Office for Immigration Review, Department of Justice.

ACTION: 30-day notice.

SUMMARY: The Department of Justice (DOJ), Executive Office for Immigration Review (EOIR), will be submitting the following information collection request to the Office of Management and Budget (OMB) for review and approval in accordance with the Paperwork Reduction Act of 1995.

DATES: Comments are encouraged and will be accepted for an additional 30 days until March 8, 2021.

ADDRESSES: Written comments and recommendations for the proposed information collection should be sent within 30 days of publication of this notice to www.reginfo.gov/public/do/PRAMain. Find this particular information collection by selecting “Currently under 30-day Review—Open for Public Comments” or by using the search function.

If you need a copy of the proposed information collection or additional information, please contact Lauren Alder Reid, Assistant Director, Office of Policy, Executive Office for Immigration Review, 5107 Leesburg Pike, Suite 2500, Falls Church, VA 22041, telephone: (703) 305-0289.

SUPPLEMENTARY INFORMATION: Written comments and suggestions from the public and affected agencies concerning the proposed collection of information are encouraged. Your comments should address one or more of the following four points:

—Evaluate whether the proposed collection of information is necessary for the proper performance of the functions of the agency, including whether the information will have practical utility;

—Evaluate the accuracy of the agency's estimate of the burden of the proposed collection of information, including the validity of the methodology and assumptions used;

—Enhance the quality, utility, and clarity of the information to be collected; and/or

—Minimize the burden of the collection of information on those who are to respond, including through the use of appropriate automated, electronic, mechanical, or other technological collection techniques or other forms of information technology, e.g., permitting electronic submission of responses.

Overview of This Information Collection

1. Type of Information Collection: New collection.

2. The Title of the Form/Collection: FOIAXpress Public Access Link.

3. The agency form number, if any, and the applicable component of the Department sponsoring the collection: No agency form number, electronic collection. The applicable component of the Department of Justice is the Office of the General Counsel, Executive Office for Immigration Review.

4. Affected public who will be asked or required to respond, as well as a brief abstract: Members of the public seeking to obtain records from the Executive Office for Immigration Review (EOIR). Abstract: This information collection is necessary to communicate with the requester community electronically regarding agency record requests and deliver agency records electronically subject to disclosure to the requester community.

5. An estimate of the total number of respondents and the amount of time estimated for an average respondent to respond: It is estimated that 33,984 respondents will complete FOIA requests via FOIAXpress with an average of 3 minutes per response.

6. An estimate of the total public burden (in hours) associated with the collection: There are an estimated 1,699 total annual burden hours associated with this collection.

If additional information is required contact: Melody Braswell, Department Clearance Officer, United States Department of Justice, Justice Management Division, Policy and Planning Staff, Two Constitution Square, 145 N Street NE, 3E.405B, Washington, DC 20530.

Dated: February 1, 2021.
Melody D. Braswell,
Department Clearance Officer for PRA, U.S Department of Justice.

[FR Doc. 2021-02381 Filed 2-4-21; 8:45 am]

BILLING CODE 4410-30-P